DEPARTMENT OF THE INTERIOR

Bureau of Land Management

[MT-929-01-1420-HE]

Montana: Filing of Plat of Survey

AGENCY: Bureau of Land Management, Montana State Office, Interior.

ACTION: Notice.

SUMMARY: The plat of the following described land is scheduled to be officially filed in the Montana State Office, Billings, Montana, thirty (30) days from the date of this publication.

T. 20 N., R. 58 E., P.M., MT

The plat, representing the dependent resurvey of portions of the south boundary, subdivisional lines and the adjusted original meanders of the right bank of a channel of the Yellowstone River, downstream, through section 34, the subdivision of section 34, and the survey of the present right bank of a channel of the Yellowstone River, downstream, through section 34 and a certain division of accretion line in section 34, Township 20 North, Range 58 East, Principal Meridian, Montana, was officially accepted May 29, 2001.

The survey was requested by the Miles City Field Office and was necessary to identify accretion and erosion to original lots 3 and 8 in section 34 of the subject township.

A copy of the preceding described plat will be immediately placed in the open files and will be available to the public as a matter of information.

If a protest against this survey, as shown on this plat, is received prior to the date of the official filing, the filing will be stayed pending consideration of the protests.

This particular plat will not be officially filed until the day after all protests have been accepted or dismissed and become final or appeals from the dismissal affirmed.

FOR FURTHER INFORMATION CONTACT: Bureau of Land Management, 5001 Southgate Drive, P.O. Box 36800, Billings, Montana 59107-6800.

Dated: June 12, 2001.
Robert L. Brockie,
Acting Chief Cadastral Surveyor, Division of Resources.

[FR Doc. 01-16576 Filed 6-29-01; 8:45 am]

BILLING CODE 4310-DN-P